INTERNATIONAL TRADE COMMISSION

[USITC SE-02-028]

Sunshine Act Meeting

AGENCY: United States International Trade Commission.

TIME AND DATE: October 2, 2002 at 2 p.m.

PLACE: Room 101, 500 E Street SW., Washington, DC 20436, Telephone: (202) 205-2000.

STATUS: Open to the public.

MATTERS TO BE CONSIDERED 1. Agenda for future meeting: none.

2. Minutes.

3. Ratification List.

4. Inv. Nos. 701-TA-417-419 and 731-TA-953-954, 956-959, and 961-962 (Final) (Carbon and Certain Alloy Steel Wire Rod from Brazil, Canada, Germany, Indonesia, Mexico, Modlova, Trinidad and Tobago, and Ukraine)—briefing and vote. (The Commission is currently scheduled to transmit its determination and Commissioners' opinions to the Secretary of Commerce on or before October 15, 2002.)

5. Outstanding action jackets: none.

In accordance with Commission policy, subject matter listed above, not disposed of at the scheduled meeting, may be carried over to the agenda of the following meeting.

By order of the Commission.
Issued: September 23, 2002.
Marilyn R. Abbott,
Secretary to the Commission.

[FR Doc. 02-24674 Filed 9-24-02; 3:15 pm]

BILLING CODE 7020-02-M